DEPARTMENT OF TRANSPORTATION

Federal Aviation Administration

RTCA, Inc.; Program Management Committee

Pursuant to section 10(a)(2) of the Federal Advisory Committee Act (P.L. 92-463, 5 U.S.C., Appendix 2), notice is hereby given for Program Management Committee meeting to be held April 19, 2000, starting at 9 a.m. The meeting will be held at RTCA, Inc., 1140 Connecticut Avenue, NW, Suite 1020, Washington, DC 20036.

The agenda will include: (1) Welcome and Introductions; (2) Review/Approve Summary of Previous Meeting; (3) Publication Consideration/Approval: (a) Final Draft, Minimum Operational Performance Standards (MOPS) for Geosynchronous Orbit Aeronautical Mobile Satellite Services (AMASS) Avionics (RTCA Paper No. 054-00/PMC-077, prepared by SC-165); (b) Final Draft, DO-201A, Standards for Aeronautical Information, (RTCA Paper No. 058-00/PMC-080, prepared by SC-181); (c) Final Draft, Design Assurance Guidance for Airborne Electronic Hardware, (RTCA Paper No. 0 60-00/PMC-081, prepared by Joint Committee SC-180/WG-46); (4) Action Item Review: (d) Action Item 00-02, Update on ADS-B Ad Hoc Group; (5) Discussion: (e) Update on request for RTCA Comment on EUROCONTROL Document, Use of Safety Management Systems by ATM Service Providers; (f) SC-159 Status Report—GNSS Application to Airport Surface Operation; (g) Proposed revision to Terms of Reference for SC-194, Air Traffic Management Data Link Implementation; (6) Other Business; (7) Date and Location of Next Meeting; (8) Closing.

Attendance is open to the interested public but limited to space availability. With the approval of the chairman, members of the public may present oral statements at the meeting. Persons wishing to present statements or obtain information should contact the RTCA Secretariat, 1140 Connecticut Avenue, NW., Suite 1020, Washington, DC 20036; (202) 833-9339 (phone); (202) 833-9434 (fax); or http://www.rtca.org (web site). Members of the public may present a written statement to the committee at any time.

Issued in Washington, DC, on March 21, 2000.
Janice L. Peters,
Designated Official.

[FR Doc. 00-7497 Filed 3-24-00; 8:45 am]

BILLING CODE 4910-13-M